FEDERAL COMMUNICATIONS COMMISSION

47 CFR Part 73

[DA 05-125, MB Docket No. 04-185, RM-10860]

Digital Television Broadcast Service; Appleton, WI

AGENCY: Federal Communications Commission.

ACTION: Final rule.

SUMMARY: The Commission, at the request of Ace TV, Inc., substitutes DTV channel 27c for DTV channel 59 at Appleton. See 69 FR 30855, June 1, 2004. DTV channel 27c can be allotted to Appleton, Wisconsin, in compliance with the principle community coverage requirements of Section 73.625(a) at reference coordinates 44-21-30 N. and 87-58-48 W. with a power of 50, HAAT of 336 meters and with a DTV service population of 835 thousand. Since the community Appleton is located within 400 kilometers of the U.S.-Canadian border, concurrence from the Canadian government was obtained for this allotment. With this action, this proceeding is terminated.

DATES: Effective March 14, 2005.

FOR FURTHER INFORMATION CONTACT: Pam Blumenthal, Media Bureau, (202) 418-1600.

SUPPLEMENTARY INFORMATION: This is a synopsis of the Commission's Report and Order, MB Docket No. 04-185, adopted January 14, 2005, and released January 28, 2005. The full text of this document is available for public inspection and copying during regular business hours in the FCC Reference Information Center, Portals II, 445 12th Street, SW., Room CY-A257, Washington, DC. This document may also be purchased from the Commission's duplicating contractor, Best Copy and Printing, Inc., 445 12th Street, SW., Room CY-B402, Washington, DC 20554, telephone (301) 816-2820, facsimile (301) 816-0169, or via e-mail joshir@erols.com.

This document does not contain [new or modified] information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

The Commission will send a copy of this Report & Order in a report to be sent to Congress and the Government Accountability Office pursuant to the Congressional Review Act, see 5 U.S.C. 801(a)(1)(A).

List of Subjects in 47 CFR Part 73

Digital television broadcasting, Television.

Part 73 of title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under Wisconsin, is amended by removing DTV channel 59 and adding DTV channel 27c at Appleton.

Federal Communications Commission.
Barbara A. Kreisman,
Chief, Video Division, Media Bureau.

[FR Doc. 05-1935 Filed 2-1-05; 8:45 am]

BILLING CODE 6712-01-P